DEPARTMENT OF ENERGY

Federal Energy Regulatory Commission

[Project No. 1432-015]

PB Energy, Inc.; Notice of Termination of License (Minor Project) by Implied Surrender and Soliciting Comments, Protests, and Motions To Intervene

Take notice that the following hydroelectric proceeding has been initiated by the Commission:

a. Type of Proceeding: Termination of License by Implied Surrender.

b. Project No.: 1432-015.

c. Date Initiated: January 24, 2020.

d. Licensee: PB Energy, Inc.

e. Name and Location of Project: The Dry Spruce Bay Hydroelectric Project located on an unnamed stream near Port Bailey in Kodiak Island Borough County, Alaska.

f. Filed Pursuant to: Standard Article 24.

g. Licensee Contact Information: PB Energy, Inc., P.O. Box KPY, Kodiak, Alaska 99697.

h. FERC Contact: Kim Nguyen, (202) 502-6105, kim.nguyen@ferc.gov.

i. Deadline for filing comments, motions to intervene and protests, is thirty (30) days from the issuance date of this notice by the Commission. The Commission strongly encourages electronic filing. Please file motions to intervene, protests, and comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-1432-015.

j. Description of Project Facilities: (1) A 920-foot-long, 50-foot-wide ditch diverting water from an unnamed stream to an upper pond; (2) a 12.59-acre upper pond created by a 200-foot-long, 50-foot-wide, 5-foot-high earthen dam with a spillway and a 200-foot-long overflow ditch; (3) a short metal flume and a 275-foot-long, 12-inch-diamter wood stave pipe conveying water from the upper pond to the lower pond; (4) a 1000-foot-long, 50-foot-wide ditch diverting water from an unnamed stream to the lower pond; (5) a 2.2-acre lower pond created by a 200-foot-long, 50-foot-wide, 5-foot-high earthen dam; (6) a 6,772-foot-long PVC and steel penstock conveying water from the lower pond to the powerhouse; (7) a steel powerhouse with a 75-kilowatt Pelton turbine; (8) a short transmission line; and (9) appurtenant facilities.

k. Description of Proceeding: Article 24 of the license states in part: If the Licensee shall abandon or discontinue good faith operation of the project or refuse or neglect to comply with the terms of the license and the lawful orders of the Commission mailed to the record address of the Licensee or its agent, the Commission will deem it to be the intent of the Licensee to surrender the license.

The project has not been operational for at least five years. On May 30, 2018, the Licensee filed an application for a subsequent license for the project. Commission staff rejected the licensee's application for failing to cure deficiencies and respond to additional information requests. Subsequently, on May 3, 2019, Commission staff issued a notice soliciting applications from other potential applicants for the project. No filings or requests were received. By letters dated September 25, 2019, November 4, 2019, and December 12, 2019, Commission staff requested the licensee to file their plan and schedule for a license surrender. The licensee did not file the requested information. On January 16, 2020, Commission staff sent a letter notifying the licensee that the Commission will open a proceeding to terminate their license by implied surrender.

l. This filing may be viewed on the Commission's website at http://www.ferc.gov/docs-filing/elibrary.asp. Enter the docket number excluding the last three digits in the docket number field to access the notice. You may also register online at http://www.ferc.gov/docs-filing/esubscription.asp to be notified via email of new filings and issuances related to this or other pending projects. For assistance, call toll-free 1-866-208-3676 or email FERCOnlineSupport@ferc.gov. For TTY, call (202) 502-8659. A copy of this notice is also available for review and reproduction at the Commission in the Public Reference Room, Room 2A, 888 First Street NE, Washington, DC 20426.

m. Comments, Protests, or Motions to Intervene: Anyone may submit comments, a protest, or a motion to intervene in accordance with the requirements of Rules of Practice and Procedure, 18 CFR 385.210-12, and .214 (2019). In determining the appropriate action to take, the Commission will consider all protests or other comments filed, but only those who file a motion to intervene in accordance with the Commission's Rules may become a party to the proceeding. Any comments, protests, or motions to intervene must be received on or before the specified comment date for the application.

n. Filing and Service of Responsive Documents: Any filing must (1) bear in all capital letters the title COMMENTS, PROTEST, or MOTION TO INTERVENE as applicable; (2) set forth in the heading the name of the applicant and the project number of the application to which the filing responds; (3) furnish the name, address, and telephone number of the person protesting or intervening; and (4) otherwise comply with the requirements of 18 CFR 385.2001-385.2005 (2019). All comments, motions to intervene, or protests must set forth their evidentiary basis and otherwise comply with the requirements of 18 CFR 4.34(b) (2019). All comments, motions to intervene, or protests should relate to project works which are the subject of the implied surrender. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010 (2019).

Dated: January 24, 2020.
Kimberly D. Bose,
Secretary.

[FR Doc. 2020-01690 Filed 1-29-20; 8:45 am]

BILLING CODE 6717-01-P